Title 3—

The President

Memorandum of August 4, 2025

Delegation of Authority Under Section 404 (c) of the Child Soldiers Prevention Act of 2008

Memorandum for the Secretary of State

By the authority vested in me as President by the Constitution and the laws of the United States of America, including section 301 of title 3, United States Code, I hereby delegate to the Secretary of State the authority under section 404(c)(1} of the Child Soldiers Prevention Act of 2008 (CSPA) (22 U.S.C. 2370c-l(c)(1)) to waive the application of the prohibition in section 404(a) of the CSPA and to make the determination and certification necessary for such waivers.

I hereby also delegate to the Secretary of State the authority under section 404(c)(2) of the CSPA to notify the appropriate congressional committees of such waivers and the justification for granting such waivers, and to publish the determination and certification for such waivers in the Federal Register.

You are hereby authorized and directed to publish this memorandum in the Federal Register.

THE WHITE HOUSE,

Washington, August 4, 2025

[FR Doc. 2025-15656

Filed 8-14-25; 11:15 am]

Billing code 4710-05-P